DEPARTMENT OF HOMELAND SECURITY

U.S. Citizenship and Immigration Services

[CIS No. 2455-08; DHS Docket No. USCIS-2008-0033]

RIN 1615-ZA78

Extension of the Re-Registration Period and Automatic Extension of Employment Authorization Documentation for Honduran Temporary Protected Status Beneficiaries

AGENCY: U.S. Citizenship and Immigration Services, DHS.

ACTION: Notice.

SUMMARY: On October 1, 2008, the Department of Homeland Security (DHS) published a Notice in the Federal Register extending the designation of Honduras for Temporary Protected Status (TPS) through July 5, 2010. USCIS has decided to extend the re-registration period through December 30, 2008. Beneficiaries of TPS for Honduras are required to re-register and obtain new Employment Authorization Documents (EADs), when an EAD is requested by the beneficiary. Since USCIS will not be able to process and re-issue new EADs for all such beneficiaries by the January 5, 2009 expiration date, USCIS has decided to automatically extend the validity of EADs issued to Honduran nationals (or aliens having no nationality who last habitually resided in Honduras) until July 5, 2009. This Notice announces that extension and also explains how TPS beneficiaries and their employers may determine which EADs are automatically extended.

DATES: This notice is effective November 24, 2008. The re-registration period will be extended through December 30, 2008. The automatic extension of EADs will begin on January 6, 2009, and will remain in effect until July 5, 2009.

FOR FURTHER INFORMATION CONTACT: TPS Operations Program Manager, Status and Family Branch, Office of Service Center Operations, U.S. Citizenship and Immigration Services, Department of Homeland Security, 20 Massachusetts Avenue, NW., Washington, DC 20529, telephone (202) 272-1533. This is not a toll-free call. Further information will also be available at local USCIS offices upon publication of this Notice and on the USCIS Web site at http://www.uscis.gov. Note: The phone number provided here is solely for questions regarding this TPS notice. It is not for individual case status inquiries. Applicants seeking information about the status of their individual case can check Case Status Online available at the USCIS Web site listed above, or applicants may call the USCIS National Customer Service Center at 1-800-375-5283 (TTY 1-800-767-1833).

SUPPLEMENTARY INFORMATION:

Why is USCIS extending the re-registration period for Honduran TPS beneficiaries?

Due to the effects of a tropical depression in Honduras and in order to provide greater uniformity and avoid potential confusion between the re-registration periods for the three Central American countries currently designated for TPS, USCIS has decided to extend the re-registration period through December 30, 2008.

Why is USCIS automatically extending the validity of EADs for Honduran TPS beneficiaries?

Considering the large number of applications, it is likely that many re-registrants will receive their new EADs after the expiration date of their current EADs. In order to prevent a gap in employment authorization for qualified re-registrants, DHS will extend the validity of applicable EADs for Honduran TPS beneficiaries until July 5, 2009.

Who is eligible to receive an automatic six-month EAD extension from January 6, 2009, to July 5, 2009?

You are eligible to receive an automatic six-month extension of an EAD if you:

• Are a national of Honduras (or an alien having no nationality who last habitually resided in Honduras);

• Applied for and received an EAD under the designation of Honduras for TPS; and

• Have not had TPS withdrawn or denied.

This automatic extension is limited to EADs issued on Form I-766, Employment Authorization Document, bearing an expiration date of January 5, 2009. These EADs must also bear the notation “A-12” or “C-19” on the face of the card under “Category.”

How may employers determine whether an EAD has been automatically extended for six months, through July 5, 2009, and is therefore acceptable for completion of the Form I-9, Employment Eligibility Verification?

An EAD that has been automatically extended for six months by this Notice through July 5, 2009, will bear the notation “A-12” or “C-19” on the face of the Form I-766 under “Category,” and have an expiration date of January 5, 2009, on the face of the card. New EADs or extension stickers showing the July 5, 2009, expiration date of the six-month automatic extension will not be issued. Employers should not request proof of Honduran citizenship.

Employers should accept an EAD as a valid “List A” document and not ask for additional Form I-9 documentation if presented with an EAD that has been extended pursuant to this Federal Register Notice, and the EAD reasonably appears on its face to be genuine and to relate to the employee. This extension does not affect the right of an applicant for employment or an employee to present any legally acceptable document as proof of identity and eligibility for employment.

Note to Employers: Employers are reminded that the laws requiring employment eligibility verification and prohibiting unfair immigration-related employment practices remain in full force. This Notice does not supersede or in any way limit applicable employment verification rules and policy guidance, including those setting forth re-verification requirements. For questions, employers may call the USCIS Customer Assistance Office at 1-800-357-2099. Employers may also call the U.S. Department of Justice Office of Special Counsel for Immigration Related Unfair Employment Practices (OSC) Employer Hotline at 1-800-255-8155. Employees or applicants may call the OSC Employee Hotline at 1-800-255-7688 for information regarding the automatic extension. Additional information is available on the OSC Web site at http://www.usdoj.gov/crt/osc/index.html.

How may employers determine an employee's eligibility for employment once the automatic six-month extension expires on July 5, 2009?

Eligible TPS aliens will possess an EAD on Form I-766 with an expiration date of July 5, 2010. The EAD will bear the notation “A-12” or “C-19” on the face of the card under “Category,” and should be accepted for the purposes of verifying identity and employment authorization.

What documents may a qualified individual show to his or her employer as proof of employment authorization and identity when completing Form I-9?

Qualified individuals who have received a six-month automatic extension of their EADs by virtue of this Federal Register Notice may present their TPS-based EADs to their employers, as described above, as proof of identity and employment authorization through July 5, 2009. To minimize confusion over this extension at the time of hire or re-verification, qualified individuals may also present a copy of this Federal Register Notice regarding the automatic extension of employment authorization documentation through July 5, 2009. After July 5, 2009, a qualified individual may present a new EAD valid through July 5, 2010.

In the alternative, any legally acceptable document or combination of documents as listed on the Form I-9 may be presented as proof of identity and employment eligibility.

Dated: November 11, 2008.
Jonathan R. Scharfen,
Acting Director, U.S. Citizenship and Immigration Services.

[FR Doc. E8-27702 Filed 11-21-08; 8:45 am]

BILLING CODE 9111-97-P